DEPARTMENT OF AGRICULTURE

Rural Utilities Service

East Kentucky Power Cooperative: Notice of Availability of an Environmental Assessment

AGENCY: Rural Utilities Service, USDA.

ACTION: Notice of availability of an Environmental Assessment for public review.

SUMMARY: The Rural Utilities Service, an agency which administers the U.S. Department of Agriculture's Rural Development Utilities Programs (USDA Rural Development) proposes to prepare an Environmental Assessment (EA) related to possible financial assistance to East Kentucky Power Cooperative (EKPC) for the construction of approximately 19 miles of double circuit 345/138 kilovolt (kV) electric transmission line and two 345 kV electric transmission substations. The proposed transmission line and substation projects would be located in Clark County, Kentucky. EKPC is requesting USDA Rural Development to provide financial assistance for the proposed project.

DATES: Written comments on this Notice must be received on or before June 29, 2006.

ADDRESSES: The Environmental Assessment will be available for public review at the Agency's address provided in this notice, at the Agency's Web site: http://www.usda.gov/rus/water/ees/ea.htm, at EKPC's headquarters office located at 4775 Lexington Road, Winchester, Kentucky 40391; and at the Clark County Library, 370 South Burns Avenue, Winchester, KY 40391.

Written comments should be sent to: Stephanie Strength, Environmental Protection Specialist, USDA, Rural Development, Utilities Programs, Engineering and Environmental Staff, 1400 Independence Avenue, SW., Stop 1571, Washington, DC 20250-1571 or e-mail stephanie.strength@wdc.usda.gov.

FOR FURTHER INFORMATION CONTACT: Stephanie Strength, Environmental Protection Specialist, USDA, Rural Development, Utilities Programs, Engineering and Environmental Staff, 1400 Independence Avenue, SW., Stop 1571, Washington, DC 20250-1571, Telephone: (202) 720-0468. Ms. Strength's e-mail address is stephanie.strength@wdc.usda.gov.

SUPPLEMENTARY INFORMATION: The proposed project area is located in northeastern, central, and southeastern Clark County, Kentucky. The proposed route for the new electric transmission line extends westerly on new and existing electric utility line rights-of-way (ROWs) from a proposed new substation site located at EKPC's existing J.K. Smith Electric Generating Station, east of the unincorporated community of Bloomingdale in southeastern Clark County. Just east of Muddy Creek Road the proposed route turns northerly following new and mostly existing utility line ROWs to a proposed new substation site located in northeastern Clark County near the Bourbon County/Clark County/Montgomery County Line, and north of Donaldson Road. The electrical conductors for the proposed new transmission line would be supported by Corten steel, two and three pole structures with an average height of 100 feet aboveground. The proposed new line would require a right-of-way (ROW) width of 150 feet. Construction of a portion of the new line would involve rebuilding 16.56 miles of existing 69 kV transmission line on an existing 100-foot wide ROW. The existing line would be dismantled and replaced by the proposed new transmission line. An additional 50 feet in width would be added to the existing ROW to accommodate the proposed new line. Each of the proposed new substations would affect a maximum of 20 acres of land. The construction of the proposed electric transmission project is tentatively scheduled to begin in the summer of 2006 and the estimated duration of construction would be 10 months.

Alternatives considered by USDA Rural Development and EKPC included: (a) No action, (b) alternate transmission line routes, (c) alternate substation sites, and (d) other electrical alternatives. An Environmental Report (ER) that describes the proposed project in detail and discusses its anticipated environmental impacts has been prepared by EKPC. The USDA Rural Development has accepted the ER as its EA of the proposed project. The EA is available for public review at addresses provided above in this Notice.

Questions and comments should be sent to USDA Rural Development at the mailing or e-mail addresses provided above in this Notice. USDA Rural Development should receive comments on the EA in writing by June 29, 2006 to ensure that they are considered in its environmental impact determination.

Should USDA Rural Development determine, based on the EA of the proposed project, that the impacts of the construction and operation of the project would not have a significant environmental impact, it will prepare a Finding of No Significant Impact. Public notification of a Finding of No Significant Impact would be published in the Federal Register and in newspapers with circulation in the project area.

Any final action by USDA Rural Development related to the proposed project will be subject to, and contingent upon, compliance with all relevant Federal, state and local environmental laws and regulations, and completion of the environmental review requirements as prescribed in USDA Rural Development's Environmental Policies and Procedures (7 CFR part 1794).

Mark S. Plank,
Director, Engineering and Environmental Staff, USDA/Rural Development/Utilities Programs.

[FR Doc. 06-4874 Filed 5-26-06; 8:45 am]

BILLING CODE 3410-15-P